INTERNATIONAL TRADE COMMISSION

[Investigation No. 337-TA-778]

Certain Equipment for Communications Networks, Including Switches, Routers, Gateways, Bridges, Wireless Access Points, Cable Modems, IP Phones and Products Containing Same; Determination Not To Review an Initial Determination; Termination of Investigation

AGENCY: U.S. International Trade Commission.

ACTION: Notice.

SUMMARY: Notice is hereby given that the U.S. International Trade Commission has determined not to review the presiding administrative law judge's (“ALJ”) initial determination (“ID”) (Order No. 47) granting a joint motion to terminate the investigation in its entirety based on a settlement agreement. The investigation is hereby terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 21, 2011, based on a complaint filed by MOSAID Technologies Inc. of Ottawa, Canada (“MOSAID”), alleging violations of section 337 of the Tariff Act of 1930, as amended (19 U.S.C. 1337), in the importation into the United States, the sale for importation, and the sale within the United States after importation of certain equipment for communications networks, including switches, routers, gateways, bridges, wireless access points, cable modems, IP phones and products containing same by reason of infringement of certain claims of U.S. Patent Nos. 7,035,280; 7,292,600; 7,830,858; 6,842,459; 7,633,966; and 5,841,360. 76 FR 36154-55 (June 21, 2011). The Notice of Investigation named the following as respondents: Cisco Systems, Inc. of San Jose, California; Cisco Consumer Products LLC of Irvine, California; Cisco Systems International B.V. of Amsterdam, Netherlands; and Scientific Atlanta LLC of Lawrenceville, California (collectively “Respondents”). The Office of Unfair Import Investigations was named as a party.

On March 14, 2012, MOSAID and Respondents jointly filed to terminate the investigation in its entirety based on a settlement agreement, which was attached to the motion. On March 21, 2012, the parties supplemented their motion to identify additional agreements that concern the investigation.

On March 21, 2012, the ALJ issued the subject ID granting the joint motion to terminate the investigation in its entirety pursuant to section 210.21(b) of the Commission's Rules of Practice and Procedure (19 CFR 210. 21(b)). No petitions for review of the subject ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: April 9, 2012.
James R. Holbein,
Secretary to the Commission.

[FR Doc. 2012-8851 Filed 4-11-12; 8:45 am]

BILLING CODE 7020-02-P